DEPARTMENT OF TRANSPORTATION

Federal Aviation Administration

14 CFR Part 39

[Docket No. 98-ANE-43-AD; Amendment 39-14242; AD 2005-18-02]

RIN 2120-AA64

Airworthiness Directives; Pratt & Whitney JT8D-209, -217, -217A, -217C, and -219 Turbofan Engines

AGENCY: Federal Aviation Administration (FAA), Department of Transportation (DOT).

ACTION: Final rule.

SUMMARY: The FAA is superseding an existing airworthiness directive (AD) for Pratt & Whitney (PW) JT8D-209, -217, -217A, -217C, and -219 turbofan engines. That AD currently requires revisions to the engine manufacturer's time limits section (TLS) to include enhanced inspection of selected critical life-limited parts at each piece-part opportunity. This AD requires modifying the airworthiness limitations section of the manufacturer's manual and an air carrier's approved continuous airworthiness maintenance program to incorporate additional inspection requirements. An FAA study of in-service events involving uncontained failures of critical rotating engine parts has indicated the need for mandatory inspections. The mandatory inspections are needed to identify those critical rotating parts with conditions, which if allowed to continue in service, could result in uncontained failures. We are issuing this AD to prevent critical life-limited rotating engine part failure, which could result in an uncontained engine failure and damage to the airplane.

DATES: This AD becomes effective February 28, 2006.

ADDRESSES: You may examine the AD docket at the FAA, New England Region, Office of the Regional Counsel, 12 New England Executive Park, Burlington, MA.

FOR FURTHER INFORMATION CONTACT: Keith Lardie, Aerospace Engineer, Engine Certification Office, FAA, Engine and Propeller Directorate, 12 New England Executive Park, Burlington, MA 01803-5299; telephone (781) 238-7189, fax (781) 238-7199.

SUPPLEMENTARY INFORMATION: The FAA proposed to amend 14 CFR part 39 with a proposed AD. The proposed AD applies to PW JT8D-209, -217, -217A, -217C, and -219 turbofan engines. We published the proposed AD in the Federal Register on August 18, 2004 (69 FR 51196). That action proposed to require modifying the time limitations section of the manufacturer's manual and an air carrier's approved continuous airworthiness maintenance program to incorporate additional inspection requirements.

Examining the AD Docket

You may examine the AD Docket (including any comments and service information), by appointment, between 8 a.m. and 4:30 p.m., Monday through Friday, except Federal holidays. See ADDRESSES for the location.

Comments

We provided the public the opportunity to participate in the development of this AD. We have considered the comments received.

Request To Increase the Costs of Compliance

Two commenters ask us to reconsider the necessary equipment and cost to do the automated eddy current inspections and to revise the Costs of Compliance to include the necessary tooling. The commenters suggest the notice of proposed rulemaking (NPRM) fails to recognize the large investment to get the equipment needed for the eddy current inspection. We don't agree. The AD doesn't require air carriers to invest in tooling and equipment or hire more personnel to comply with the proposed AD. The AD requires adding the new eddy current inspection to the TLS of the engine manufacturer's manual, and to the air carriers' approved maintenance manuals. Operators can choose to buy equipment to perform the inspection, or they may send the disk to an approved service provider.

Request for an Annual Cost for the Recurring Inspections

One commenter states the NPRM implies a onetime cost for the inspection, but that it is a recurring cost. We don't agree. The Costs of Compliance section of the NPRM states the estimated cost for each inspection on each engine. We used the current shop visit rate for the JT8D engine to calculate the yearly recurring cost for each engine. The air carriers can use their own specific costs for their individual JT8D fleet to calculate their inspection cost.

Question About the Cost for the Inspection

One commenter states the costs for the inspections are significantly different from the costs we specified in the NPRM. We don't agree. We based our cost estimate on inspection times provided by the engine manufacturer. We understand that cost estimates can vary depending on the service provider. However, we consider basing our cost estimate on inspection times provided by the engine manufacturer to be the most accurate approach to estimating the cost to comply with the AD.

Concern About Increased Inventory Levels for Parts Not Reflected in the Cost Estimate

The same commenter suggests that quoted turnaround time for the inspection will make air carriers increase inventory levels for the affected parts. The commenter also suggests the cost estimate doesn't reflect the cost of the increased inventory. We don't agree. The AD requires adding the new eddy current inspection to the TLS of the engine manufacturer's manual, and to the air carrier's approved maintenance manuals. The AD doesn't require air carriers to increase spare parts inventory levels or specify the logistics of performing the inspections.

Requests To Allow Operators To Use Equivalent Equipment To Perform the Inspections

Three commenters ask that we allow them to use equipment that equals the inspection equipment specified by the engine manufacturer. The commenters ask us to allow them to use equipment they already use for other mandated inspections. The commenters suggest that using the single-source equipment specified by the manufacturer will cause an undue burden. We don't agree. We don't intend that this proposed AD specify only one method, or limit the inspection to one method of inspection. This AD requires the operators to revise the TLS to include a mandatory opportunistic inspection. The engine manufacturer developed a validated inspection procedure using specific tooling and equipment that provides an acceptable inspection technique. However, operators may still seek approval from the manufacturer to use alternative tools or methods of inspections other than those specified in the engine manual. Providing flexibility for the engine manufacturers to revise their engine manuals as they fine-tuned their inspection methods and developed alternatives is part of the outcome of working with the Air Transportation Association, operators, and manufacturers.

Question About the Completeness of Paragraph (i) of the Proposed AD

One commenter states the last sentence in paragraph (i), under “Maintaining Records of the Mandatory Inspections” does not seem complete. The commenter states the current sentence reads: “For air carriers operating under part 121, you may use either the system established to comply with the compliance times unless specified unless the actions have already been done.” We don't agree the sentence is incomplete. The sentence reads “For air carriers operating under part 121, you may use either the system established to comply with section 121.369 or use an alternative system that your principal maintenance inspector has accepted if that alternative system”.

Request To Extend the Compliance Time of the Final Rule

Two commenters ask that we extend the effective date of the AD to allow an additional six to eight months. The commenters suggest the extension is necessary to procure the eddy current inspection equipment, train personnel, and to allow PW to revise their engine manuals to define clearly the approval procedure for alternate equipment. We agree. We changed the effective date from 30 days after publication in the Federal Register to 180 days after publication in the Federal Register.

Conclusion

We have carefully reviewed the available data, including the comments received, and determined that air safety and the public interest require adopting the AD with the changes described previously. We have determined that these changes will neither increase the economic burden on any operator nor increase the scope of the AD.

Costs of Compliance

There are about 2,345 Pratt & Whitney JT8D-209, -217, -217A, -217C, and -219 turbofan engines of the affected design in the worldwide fleet. We estimate that this AD will affect 1,143 engines installed on airplanes of U.S. registry. We also estimate that it will take about 8 work hours per engine to perform the proposed inspections, and that the average labor rate is $65 per work hour. Since this is an added inspection requirement, included as part of the normal maintenance cycle, no additional part costs are involved. Based on these figures, we estimate the total cost of the AD to U.S. operators to be $594,360.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that this proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 98-ANE-43-AD” in your request.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12797 (67 FR 44527, July 3, 2002) and by adding a new airworthiness directive, Amendment 39-14242, to read as follows:

2005-18-02 Pratt & Whitney: Amendment 39-14242. Docket No. 98-ANE-43-AD.

Effective Date

(a) This airworthiness directive (AD) becomes effective February 28, 2006.

Affected ADs

(b) This AD supersedes AD 2002-13-09.

Applicability

(c) This AD applies to Pratt & Whitney (PW) JT8D-209, -217, -217A, -217C, and -219 turbofan engines. These engines are installed on, but not limited to Boeing 727 and McDonnell Douglas MD-80 series airplanes.

Unsafe Condition

(d) This AD results from the need to require enhanced inspection of selected critical life-limited parts of JT8D-209, -217, -217A, -217C, and “219 turbofan engines. We are issuing this AD to prevent critical life-limited rotating engine part failure, which could result in an uncontained engine failure and damage to the airplane.

Compliance

(e) You are responsible for having the actions required by this AD performed within the compliance times specified unless the actions have already been done.

(f) Within the next 30 days after the effective date of this AD, (1) revise the Time Limits section (TLS) of the manufacturer's Engine Manual, Part Number 773128, as appropriate for PW JT8D-209, -217, -217A, -217C, and -219 turbofan engines, and (2) for air carriers, revise the approved mandatory inspections section of the continuous airworthiness maintenance program, by adding the following:

“Critical Life Limited Part Inspection

A. Inspection Requirements:

(1) This section contains the definitions for individual engine piece-parts and the inspection procedures, which are necessary, when these parts are removed from the engine.

(2) It is necessary to do the inspection procedures of the piece-parts in Paragraph B when:

(a) The part is removed from the engine and disassembled to the level specified in paragraph B and

(b) The part has accumulated more than 100 cycles since the last piece part inspection, provided that the part is not damaged or related to the cause of its removal from the engine.

(3) The inspections specified in this section do not replace or make unnecessary other recommended inspections for these parts or other parts.

B. Parts Requiring Inspection.

Note: Piece part is defined as any of the listed parts with all the blades removed.

Description | Section | Inspection No.
Hub (Disk), 1st Stage Compressor:
Hub Detail—All P/Ns | 72-33-31 | -02, -03, -04
Hub Assembly—All P/Ns | 72-33-31 | -02, -03, -04
Disk, 13th Stage Compressor—All P/Ns | 72-36-47 | -02
HP Turbine, First Stage:
Rotor Assembly—All P/Ns | 72-52-02 | -04
Disk—All P/Ns | 72-52-02 | -03
Disk, 2nd Stage Turbine—All P/Ns | 72-53-16 | -02
Disk, 3rd Stage Turbine—All P/Ns | 72-53-17 | -02
Disk, 4th Stage Turbine—All P/Ns | 72-53-18 | -02

Alternative Methods of Compliance

(g) You must perform these mandatory inspections using the TLS and the applicable Engine Manual unless you receive approval to use an alternative method of compliance under paragraph (h) of this AD. Section 43.16 of the Federal Aviation Regulations (14 CFR 43.16) may not be used to approve alternative methods of compliance or adjustments to the times in which these inspections must be performed.

(h) The Manager, Engine Certification Office, has the authority to approve alternative methods of compliance for this AD if requested using the procedures found in 14 CFR 39.19.

Maintaining Records of the Mandatory Inspections

(i) You have met the requirements of this AD by using a TLS of the manufacturer's engine manual changed as specified in paragraph (f) of this AD, and, for air carriers operating under part 121 of the Federal Aviation Regulations (14 CFR part 121), by modifying your continuous airworthiness maintenance plan to reflect those changes. You must maintain records of the mandatory inspections that result from those changes to the TLS according to the regulations governing your operation. You do not need to record each piece-part inspection as compliance to this AD. For air carriers operating under part 121, you may use either the system established to comply with section 121.369 or use an alternative system that your principal maintenance inspector has accepted if that alternative system:

(1) Includes a method for preserving and retrieving the records of the inspections resulting from this AD; and

(2) Meets the requirements of section 121.369(c); and

(3) Maintains the records either indefinitely or until the work is repeated.

(j) These record keeping requirements apply only to the records used to document the mandatory inspections required as a result of revising the TLS as specified in paragraph (f) of this AD, and do not alter or amend the record keeping requirements for any other AD or regulatory requirement.

Related Information

(k) None.

Issued in Burlington, Massachusetts, on August 24, 2005.
Jay J. Pardee,
Manager, Engine and Propeller Directorate, Aircraft Certification Service.

[FR Doc. 05-17319 Filed 8-31-05; 8:45 am]

BILLING CODE 4910-13-P